DEPARTMENT OF THE INTERIOR

Bureau of Indian Affairs

[189A2100DD/AAKC001030/A0A501010.999900 253G]

Request for Nominations of Members To Serve on the Bureau of Indian Education Advisory Board for Exceptional Children

AGENCY: Bureau of Indian Affairs, Interior.

ACTION: Notice of request for nominations.

SUMMARY: Pursuant to the Federal Advisory Committee Act and the Individuals with Disabilities Education Act of 2004 (IDEA), the Bureau of Indian Education (BIE) requests nominations of individuals to serve on the Advisory Board for Exceptional Children (Advisory Board). There will be eight positions available. Board members shall serve a staggered term of two years or three years from the date of their appointment. The BIE will consider nominations received in response to this request for nominations, as well as other sources. The SUPPLEMENTARY INFORMATION section of this notice provides committee and membership criteria.

DATES: Please submit nominations by January 29, 2018.

ADDRESSES: Please submit nominations to Ms. Jennifer Davis, Designated Federal Officer (DFO), Bureau of Indian Education, Division of Performance and Accountability, 2600 N. Central Ave., Suite 800, Phoenix, AZ 85004, Telephone (602) 265-1592 or (505) 259-4731; Fax to (602) 265-8293.

FOR FURTHER INFORMATION CONTACT: Ms. Jennifer Davis, DFO, at the above listed address and telephone number.

SUPPLEMENTARY INFORMATION: The Advisory Board was established in accordance with the Federal Advisory Committee Act, Public Law 92-463. Members of the Advisory Board provide guidance, advice, and recommendations with respect to special education and related services for children with disabilities in BIE-funded schools in accordance with the requirements of IDEA.

Pursuant to 20 U.S.C. 1411(h)(6), the Advisory Board is composed of up to 15 individuals involved in or concerned with the education and provision of services to Indian infants, toddlers, children, and youth with disabilities. The Advisory Board composition reflects a broad range of viewpoints and includes at least one member representing each of the following interests: Indians with disabilities; teachers of children with disabilities; Indian parents or guardians of children with disabilities; service providers, state education officials; local education officials; state interagency coordinating councils (for states having Indian reservations); tribal representatives or tribal organization representatives; and other members representing the various divisions and entities of the BIE.

Members of the Advisory Board will not receive compensation, but will be reimbursed for travel, including subsistence, and other necessary expenses incurred in the performance of their duties in the same manner as persons employed intermittently in Government Service under 5 U.S.C. 5703.

A member may not participate in matters that will directly affect, or appear to affect, the financial interests of the member or the member's spouse or minor children, unless authorized by the appropriate ethics official. Compensation from employment does not constitute a financial interest of the member so long as the matter before the committee will not have a special or distinct effect on the member or the member's employer, other than as part of a class. The provisions of this paragraph do not affect any other statutory or regulatory ethical obligations to which a member may be subject.

The Advisory Board meets at least twice a year, budget permitting, but additional meetings may be held as deemed necessary by the Assistant Secretary—Indian Affairs or the DFO. All Advisory Board meetings are open to the public in accordance with the Federal Advisory Committee Act regulations.

Nominations are requested from individuals, organizations, and federally recognized tribes, as well as from State Directors of Special Education (within the 23 states in which BIE-funded schools are located) concerned with the education of Indian children with disabilities as described above.

Nominees should have expertise and knowledge of the issues and/or needs of American Indian children with disabilities.

The Department of the Interior is committed to equal opportunities in the workplace and seeks diverse Committee membership, which is bound by the Indian Preference Act of 1990 (25 U.S.C. 472).

A summary of the nominee's qualifications (resume or curriculum vitae) must be included along with the completed nomination application, which can be found on the Bureau of Indian Education website. Nominees must have the ability to attend Advisory Board meetings, carry out Advisory Board assignments, participate in teleconference calls, and work in groups. If you wish to nominate someone for appointment to the Advisory Board, please do not make the nomination until the person has agreed to have his or her name submitted to the BIE for this purpose.

Information Collection: This collection of information is authorized by OMB Control Number 1076-0179, “Solicitation of Nominations for the Advisory Board for Exceptional Children.” Before including your address, phone number, email address, or other personal identifying information in your comments, please be aware that your entire comment, including your personal identifying information, may be made publicly available at any time. While you can ask us in your comment to withhold your personal identifying information from public review, we cannot guarantee that we will be able to do so.

Dated: December 6, 2017.
John Tahsuda,
Acting Assistant Secretary—Indian Affairs.

[FR Doc. 2017-28057 Filed 12-27-17; 8:45 am]

BILLING CODE 4337-15-P